DEPARTMENT OF COMMERCE

National Oceanic and Atmospheric Administration

RIN 0648-XP18

Marine Mammals; Record of Decision; File Nos. 14324 through 14337, Except 14333

AGENCY: National Marine Fisheries Service (NMFS), National Oceanic and Atmospheric Administration (NOAA), Commerce.

ACTION: Notice; Record of Decision and issuance of permits.

SUMMARY: Notice is hereby given that NMFS issued a new Record of Decision (ROD) on August 10, 2009, for the Final Programmatic Environmental Impact Statement (PEIS) for Steller Sea Lion and Northern Fur Seal Research. Subsequently, 12 permits were issued to conduct research on Steller sea lions (Eumetopias jubatus) and northern fur seals (Callorhinus ursinus) throughout their ranges in the United States.

ADDRESSES: The permits and related documents are available for review upon written request or by appointment in the following office(s):

Permits, Conservation and Education Division, Office of Protected Resources, NMFS, 1315 East-West Highway, Room 13705, Silver Spring, MD 20910; phone (301)713-2289; fax (301)713-0376; and Alaska Region, NMFS, P.O. Box 21668, Juneau, AK 99802-1668; phone (907)586-7221; fax (907)586-7249.

FOR FURTHER INFORMATION CONTACT: Tammy Adams, Kate Swails, or Amy Sloan, (301)713-2289.

SUPPLEMENTARY INFORMATION: On May 13, 2009, notice was published in the Federal Register (74 FR 22518) that requests for permits to conduct research on marine mammals had been submitted by various applicants. The requested permits have been issued under the authorities of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.). The permits are valid through August 31, 2014.

File No. 14324: The permit issued to Alaska SeaLife Center (ASLC), Seward, AK, (Principal Investigator: John Maniscalco) authorizes them to investigate causes for the Steller sea lion population decline and determine what is currently limiting its recovery. Research will involve: disturbance associated with capture, observational studies, and material/scat/carcass collection; capture, restraint, and sampling; and remote biopsy. Captured sea lions will undergo morphometrics measurement; blood and tissue collection; digital imaging; hot-branding; body condition measurement; whisker, hair, and milk sampling; temporary marking; and ultrasound exams. Research will occur in the Gulf of Alaska and Aleutian Islands, on Steller sea lions of the western Distinct Population Segment (DPS). The permit also authorizes annual unintentional mortality of Steller sea lions from the western DPS.

File No. 14325: The permit issued to the Alaska Department of Fish and Game (ADF&G), Division of Wildlife Conservation, Juneau, AK, (Principal Investigator: Lorrie Rea, Ph.D.), authorizes them to continue a long-term research program investigating the various hypotheses for the decline or lack of recovery of Steller sea lions in AK. Research will involve: incidental disturbance during aerial surveys (eastern DPS); disturbance of animals on rookeries and haulouts during brand resighting surveys (eastern and western DPS) and incidental to scat collection, capture for instrument attachment, capture for branding, capture method development, physiological research and sample collection (eastern and western DPS); permanent marking of pups for long-term demographic and distribution studies, capture of older animals (eastern and western DPS) for physiological assessment and attachment of scientific instruments to investigate foraging ecology, diving behavior and habitat use. Additional animals of any age may be instrumented without capture (eastern and western DPS). The permit also authorizes unintentional mortality of Steller sea lions from the western DPS and the eastern DPS. Harbor seals (Phoca vitulina richardsi), northern fur seals, and California sea lions (Zalophus californianus) may be disturbed incidentally during the course of this research.

File No. 14326: The permit issued to NMFS National Marine Mammal Laboratory (NMML), Seattle, WA, (Principal Investigator: Tom Gelatt, Ph.D.), authorizes them to measure population status, vital rates, foraging ecology, habitat requirements, and effects of natural and anthropogenic factors for Steller sea lion in the North Pacific Ocean, including rookeries and haulouts in CA, OR, WA, and AK. Annually in the western DPS sea lions may be exposed to aerial surveys, rookery-based activities, and other incidental activities. Steller sea lions that are captured will have blood, skin, and swab samples collected; be hot-branded, have blubber and lesions biopsied, vibrissa removed; and stomach intubation. Instruments will be attached to some animals and others will receive a non-permanent mark if not hot-branded. Non-target species that may be harassed incidental to Steller sea lion research include northern fur seals in AK, California sea lions and northern elephant seals (Mirounga angustrirostris) in WA, OR, and CA, and harbor seals (P. vitulina) in all states. The permit also authorizes unintentional mortality of Steller sea lions from the western DPS and the eastern DPS.

File No. 14327: The permit issued to NMML, (Principal Investigator: Rolf Ream, Ph.D.), authorizes them to investigate population status and trends, demographic parameters, health and condition, and foraging ecology of northern fur seals in U.S. waters, including rookeries and haulouts in CA and AK. Research on the San Miguel Island stock will involve: capture, restraint, sampling, and incidental disturbance. Research on the Eastern Pacific stock will involve: capture, restraint, sampling, and incidental disturbance. The permit also authorizes research-related mortality of fur seals from the San Miguel Island Stock and the Eastern Pacific stock. Western DPS Steller sea lions and California sea lions may be harassed annually incidental to the research.

File No. 14328: The permit issued to ASLC, (Principal Investigator: Alan Springer, Ph.D.) authorizes them to characterize the winter habitat, movement patterns, diets and general health of adult male northern fur seals in the Bering Sea and northern North Pacific Ocean. Animals in AK would be captured, satellite tagged, blubber biopsied, blood sampled, and a vibrissa would be pulled for stable isotope analysis. Northern fur seals in AK may be incidentally harassed during the research activities. The permit also authorizes research-related mortality of fur seals.

File No. 14329: The permit issued to the North Pacific Universities Marine Mammal Research Consortium (NPUMMRC), University of British Columbia, Vancouver, B.C., Canada, (Principal Investigator: Andrew Trites, Ph.D.) authorizes them to test hypotheses that might explain the decline of northern fur seals in AK and offer solutions for recovery. The research includes studies on foraging ecology, demographics, behavior, and changes in body size. Research activities involve: disturbance associated with capture, observational studies, and scat collection; and capture, restraint, tissue sampling, and marking. The permit also authorizes research-related mortality of northern fur seals.

File No. 14330 and File No. 14331: The permits issued to the Aleut Community of St. Paul Island (ACSPI), Tribal Government, Ecosystem Conservation Office, St. Paul Island, AK, (File No. 14330), (Principal Investigator: Phillip A. Zavadil), and Aleut Community of St. George Island (ACSGI), St. George Traditional Council, St. George Island, AK, (File No. 14331), (Principal Investigator: Chris Merculief), authorize them to conduct activiites to fulfill their Biosampling, Disentanglement, and Island Sentinel program responsibilities as established under the co-management agreement between NMFS and the Aleut Communities. Work by ACSPI will occur on St. Paul Island, AK and work by ACSGI will occur on St. George Island, AK. The permits authorize incidental disturbance of northern fur seals on St. Paul Island and St. George Island during (1) disentanglement events, (2) the collection of biological samples from dead stranded and subsistence hunted marine mammals, and (3) haulout and rookery observations, monitoring, and remote camera maintenance. Samples will be exported to researchers studying the decline of northern fur seals. Steller sea lions and harbor seals may be disturbed during the course of these activities. The permits also authorize research-related mortality of northern fur seals.

File No. 14334: The permit issued to the ASLC, (Principal Investigator: Lori Polasek, Ph.D.), authorizes them to investigate reproductive physiology of captive adult Steller sea lions (permanently captive eastern stock) and survival, growth, and physiology of captive-bred offspring. They may also deploy biotelemetry instruments on the captives to develop and validate methods for monitoring wild Steller sea lions. Research will be conducted on one adult male, up to four adult females, and up to six offspring, and will include the following activities: mass and morphometric measurements; ultrasound; capture, sedation, and anesthesia; blood sampling and administration of Evan's blue dye and deuterium oxide; feces, urine, semen, and milk collection; video/audio recordings; genital swabs; radiographs; dietary supplements; blubber biopsy; and attachment of biotelemetry instrumentation. The permit also provides for transfer to and import from approved North American facilities up to two male and four female Steller sea lions, not to exceed 11 animals held at ASLC for use in research. The permit allows for research-related mortality of captive Steller sea lions.

File No. 14335: The permit issued to the ASLC, (Principal Investigator: JoAnn Mellish, Ph.D.), authorizes them to investigate the decline of the western stock of Steller sea lions and its failure to recover, and to assist recovery efforts. Data may be obtained on juvenile survival, epidemiology, endocrinology, immunology, virology, physiology, ontogenetic and annual body condition cycles, foraging behavior and habitat selection. Pups and juveniles of both sexes in the Gulf of Alaska will be captured each year, with a subset of juveniles selected for temporary quarantine captivity at the ASLC. Research activities involve capture, drug administration, anesthesia, fecal and urine collection, external and internal instruments, marking, morphometrics, behavioral observations, photogrammetry, tissue sampling, ultrasound, and x-ray. The permit also authorizes research related mortality of Steller sea lions from the western DPS.

File No. 14336: The permit issued to Markus Horning, Ph.D., Marine Mammal Institute, Oregon State University, Newport, OR authorizes him to continue studies related to validation of surgically implanted scientific instruments called Life History Transmitters (LHX tags), for determining survival rates, emigration, causes of mortality, predation, and collecting long-term forage effort data in juvenile Steller sea lions. LHX tags will be opportunistically deployed in carcasses of dead Steller sea lions in AK, OR, and CA, and in California sea lions in OR and CA to assess uplink failure rates. Remote monitoring (using still, video, and infrared cameras) for censusing, brand re-sighting, attendance patterns, and estimating body mass, condition and health trends will be conducted at Long Island, AK and Sea Lion Caves and Cascade Head, OR. The permit also authorizes research-related mortalities of eastern DPS Steller sea lions.

File No. 14337: The permit issued to the NPUMMRC, (Principal Investigator: Andrew Trites, Ph.D.), authorizes them to conduct studies of Steller sea lion diets, distributions, life history traits, physiology and the timing of weaning in AK. NPUMMRC will also permit activities to evaluate pain experienced by Steller sea lions during hot-iron branding conducted by researchers operating under separate permits. Research activities include: disturbance associated with capture, observational studies, and scat collection; and capture, restraint, tissue sampling, and marking. The permit also authorizes research-related mortality of eastern DPS and western DPS sea lions. The permit authorizes harassment of northern fur seals, California sea lions, northern elephant seals, harbor seals, and killer whales (Orcinus orca) in AK incidental to the research on Steller sea lions.

In compliance with the National Environmental Policy Act of 1969 (42 U.S.C. 4321 et seq.), NMFS completed a Final PEIS for Steller Sea Lion and Northern Fur Seal Research to provide decision-makers, and the public, with an evaluation of the environmental effects of funding and permitting a research program for Steller sea lions and northern fur seals for the next five to ten years. In a ROD signed on August 10, 2009, NMFS identified the Preferred Alternative (Alternative 4: Research Program with Full Implementation of Conservation Goals) as its preferred strategy for issuance of grants and permits for scientific research on these species. This alternative allows the agency to fully implement the recommendations in the species' conservation and recovery plans. Subsequent to completion of the PEIS, and prior to the ROD, NMFS developed additional policy and guidance to improve the implementation of the Steller sea lion and Northern fur seal research permit program. For additional information about the PEIS, please see the project webpage at http://www.nmfs.noaa.gov/pr/permits/eis/steller.htm. NMFS has determined that the activities in the above permits are consistent with the Preferred Alternative, and that issuance of the permits would not have a significant adverse impact on the human environment.

Issuance of the permits, as required by the ESA, were based on a finding that such permits: (1) were applied for in good faith; (2) will not operate to the disadvantage of such endangered species; and (3) are consistent with the purposes and policies set forth in section 2 of the ESA.

Dated: August 25, 2009.
P. Michael Payne,
Chief, Permits, Conservation and Education Division, Office of Protected Resources, National Marine Fisheries Service.

[FR Doc. E9-20951 Filed 8-28-09; 8:45 am]

BILLING CODE 3510-22-S